DEPARTMENT OF HEALTH AND HUMAN SERVICES

Administration for Children and Families

Submission for Office of Management and Budget Review; Mental Health Assessment Form and Public Health Investigation Forms, Tuberculosis and Non-Tuberculosis Illness (Office of Management and Budget 0970-0509)

AGENCY: Office of Refugee Resettlement, Administration for Children and Families, United States Department of Health and Human Services.

ACTION: Request for public comments.

SUMMARY: The Administration for Children and Families (ACF) is requesting a 3-year extension of the Mental Health Assessment Form (formerly the Health Assessment Form) and Public Health Investigation Forms, Active Tuberculosis (TB) and Non-TB Illness (Office of Management and Budget (OMB) #0970-0509, expiration December 31, 2023). Changes are proposed to the currently approved forms.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: The ACF Office of Refugee Resettlement (ORR) places unaccompanied children in their custody in care provider programs until unification with a qualified sponsor. Care provider programs are required to provide children with a range of services including medical, dental, and mental health care. While in ORR care, children meet with onsite mental health counselors on a regular basis. If a child is identified as potentially having a more serious mental health condition, they are referred to a psychiatrist, psychiatric nurse practitioner or physician's assistant, licensed psychologist, or any other community-based licensed mental health provider (e.g., social worker).

The Mental Health Assessment form is used as a worksheet for mental health specialists to compile information that would otherwise have been collected during the evaluation. Once completed, the form is given to care provider program staff for entry into ORR's secure, electronic data record system. Data is used to monitor the health of unaccompanied children while in ORR care and for case management of any identified conditions.

Children may be exposed to nationally reportable infectious diseases during the journey to the U.S., while in the custody of the Customs and Border Protection after crossing the border, or during their stay in ORR custody. Public health interventions such as quarantine, vaccination or lab testing may be initiated to reduce possible disease transmission. Following an exposure, children are assessed onsite by care provider program staff and if found to be symptomatic, referred to a healthcare provider for evaluation.

The Public Health Investigation Forms are used as worksheets by care provider program staff to record their findings when an exposure has been reported. Once completed, they will enter the data into ORR's secure data record system. Data is used to track disease transmission and health outcomes of children in ORR care.

ORR has repurposed the former Health Assessment Form from a medical and mental health information collection to a mental health collection only, and renamed it, the Mental Health Assessment Form. ORR has incorporated other changes to the forms to streamline the flow of data collection, clarify the intent of certain fields, improve data quality, and ensure alignment with ORR requirements. In addition, ORR has written an instructional letter for the Mental Health Assessment Form to explain the purpose of the form and provide general guidance on completion to healthcare providers.

Respondents: Mental health professionals (psychiatrists, psychiatric nurse practitioners or physician's assistants, licensed psychologist or any other community based licensed mental health provider (e.g., social worker)), care provider program staff.

Annual Burden Estimates

Estimated Opportunity Time for Respondents
Instrument | Respondent | Annual number of respondents | Total number of responses per respondent | Average burden hours per response | Annual burden hours
Mental Health Assessment Form | Mental health professionals | 500 | 6.8 | 0.18 | 612
Public Health Investigation Form: Active TB Public Health Investigation Form: Non-TB Illness | Care provider program staff | 500 500 | 1 200 | 0.08 0.08 | 400 8,000

Estimated Total Annual Burden Hours: 9,012.

Estimated Recordkeeping Time
Instrument | Respondent | Annual number of respondents | Total number of responses per respondent | Average burden hours per response | Annual burden hours
Mental Health Assessment Form Public Health Investigation Form: Active TB | Care provider program staff | 500 500 | 6.8 1 | 0.21 0.08 | 714 400
Public Health Investigation Form: Non-TB Illness |  | 500 | 200 | 0.08 | 8,000

Estimated Total Annual Burden Hours: 9,114.

Authority: 6 U.S.C. 279: Exhibit 1, part A.2 of the Flores Settlement Agreement (Jenny Lisette Flores, et al., v. Janet Reno, Attorney General of the United States, et al., Case No. CV 85-4544-RJK [C.D. Cal. 1996])

Mary B. Jones,
ACF/OPRE Certifying Officer.

[FR Doc. 2023-16840 Filed 8-4-23; 8:45 am]

BILLING CODE 4184-45-P